DEPARTMENT OF THE INTERIOR

National Park Service

[N6593; NPS-WASO-NAGPRA-NPS0041306; PPWOCRADN0-PCU00RP14.R50000]

Notice of Intended Repatriation: California State Polytechnic University, Humboldt, Arcata, CA, and Sonoma State University, Rohnert Park, CA

AGENCY: National Park Service, Interior.

ACTION: Notice.

SUMMARY: In accordance with the Native American Graves Protection and Repatriation Act (NAGPRA), California State Polytechnic University, Humboldt (Cal Poly Humboldt) and Sonoma State University intend to repatriate certain cultural items that meet the definition of unassociated funerary objects, sacred objects, and/or objects of cultural patrimony and that have a cultural affiliation with the Indian Tribes or Native Hawaiian organizations in this notice.

DATES: Repatriation of the cultural items in this notice may occur on or after December 18, 2025.

ADDRESSES: Send additional, written requests for repatriation of the cultural items in this notice to Megan Watson, NAGPRA Coordinator for Cal Poly Humboldt, 1 Harpst Street, Arcata, CA 95521, email calnagpra@humboldt.edu, and Kirsten Twork, Repatriation Coordinator for Sonoma State University, 1801 E Cotati Avenue, Rohnert Park, CA 94928, email tworkk@sonoma.edu.

SUPPLEMENTARY INFORMATION: This notice is published as part of the National Park Service's administrative responsibilities under NAGPRA. The determinations in this notice are the sole responsibility of Cal Poly Humboldt and Sonoma State University, and additional information on the determinations in this notice, including the results of consultation, can be found in the summary or related records. The National Park Service is not responsible for the determinations in this notice.

Abstract of Information Available

A total of 191 cultural items have been requested for repatriation. Of these cultural items, a total of 141 individual items are unassociated funerary objects, including flaked stone, unmodified stones, and shell. A total of 50 items are sacred objects, including flaked stone, groundstone, polished stone, shell, unmodified faunal remains, floral remains, and historic items.

In 1984, 141 individual cultural items were removed from CA-SON-712/P-49-000655 (also known as the Dutton Property), located in Sebastopol, California. The cultural items were removed by archaeologist Alan Bramlette of the Sonoma State University Cultural Resources Facility and donated to Humboldt State University (now Cal Poly Humboldt). Records indicate that additional items from this site are held in the property owner's private collection and are not in the possession of Cal Poly Humboldt.

In 1987, 50 cultural items were removed from CA-SON-1101/P-49-001029, located in Sebastopol, California. The cultural items were removed by archaeologist Alan Bramlette of the Sonoma State University Cultural Resources Facility. Of these cultural items, 15 items were kept at Sonoma State University, while 35 individual items were donated to Humboldt State University (now Cal Poly Humboldt).

Determinations

Cal Poly Humboldt and Sonoma State University have determined that:

• The 141 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 50 sacred objects described in this notice are specific ceremonial objects needed by a traditional Native American religious leader for present-day adherents to practice traditional Native American religion, according to the Native American traditional knowledge of a lineal descendant, Indian Tribe, or Native Hawaiian organization.

• There is a connection between the cultural items described in this notice and the Federated Indians of Graton Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 18, 2025. If competing requests for repatriation are received, Cal Poly Humboldt and Sonoma State University must determine the most appropriate requestor prior to repatriation. Requests for joint repatriation of the cultural items are considered a single request and not competing requests. Cal Poly Humboldt and Sonoma State University are responsible for sending a copy of this notice to the Indian Tribes and Native Hawaiian organizations identified in this notice and to any other consulting parties.

Authority: Native American Graves Protection and Repatriation Act, 25 U.S.C. 3004 and the implementing regulations, 43 CFR 10.9.

Dated: September 30, 2025.
Melanie O'Brien,
Manager, National NAGPRA Program.

[FR Doc. 2025-20110 Filed 11-17-25; 8:45 am]

BILLING CODE 4312-52-P